DEPARTMENT OF THE TREASURY

United States Mint

Pricing Changes for 2018 United States Mint Numismatic Products

AGENCY: United States Mint, Department of the Treasury.

ACTION: Notice.

The United States Mint is announcing pricing changes for some 2018 United States Mint Numismatic Products. Please see the table below:

Product | 2018 Retail price
United States Mint Proof Set® | $27.95
United States Mint Silver Proof Set® | 49.95
United States Mint Uncirculated Coin Set® | 21.95
United States Mint America the Beautiful Quarters Proof Set™ | 15.95
United States Mint America the Beautiful Quarters Silver Proof Set™ | 33.95
United States Mint Limited Edition Silver Proof Set™ | 144.95
United States Mint America the Beautiful Uncirculated Set™ | 13.95
United States Mint America the Beautiful Circulating Set™ | 8.95
United States Mint America the Beautiful Five Ounce Silver Uncirculated Coin™ | 154.95
United States Mint American Eagle One Ounce Silver Proof Coin™ | 55.95
United States Mint American Eagle One Ounce Silver Uncirculated Coin™ | 46.95
United States Mint American Eagle Bulk Pack | 11,749.50
United States Mint Congratulations Set™ | 56.95

FOR FURTHER INFORMATION CONTACT: Katrina McDow, Marketing Specialist, Numismatic and Bullion Directorate; United States Mint; 801 9th Street NW; Washington, DC 20220; or call 202-354-8495.

Authority: 31 U.S.C. 5111, 5112, 5132 & 9701.

Dated: December 29, 2017.
Jon J. Cameron,
Associate Director for Numismatic and Bullion, United States Mint.

[FR Doc. 2017-28496 Filed 1-3-18; 8:45 am]

BILLING CODE P